DEPARTMENT OF ENERGY

Federal Energy Regulatory Commission

[Docket No. PF08-6-000]

Columbia Gas Transmission; Notice of Intent To Prepare an Environmental Assessment for the Planned Ohio Storage Expansion Project and Request for Comments on Environmental Issues

February 22, 2008.

The staff of the Federal Energy Regulatory Commission (FERC or Commission) will prepare an environmental assessment (EA) that will discuss the potential environmental impacts of the Ohio Storage Expansion Project, involving construction and operation of natural gas facilities by Columbia Gas Transmission (Columbia) in Ashland, Fairfield, Hocking, and Holmes Counties, Ohio. The EA will be used by the Commission in its decision-making process to determine whether the project is in the public convenience and necessity.

This notice announces the opening of the scoping period that will be used to gather environmental input from the public and interested agencies on the project. Your input will help the Commission staff determine which issues need to be evaluated in the EA. Please note that the scoping period will close on April 7, 2008. Instructions on how to submit comments are provided in the Public Participation section of this notice.

If you are a landowner receiving this notice, you may be contacted by a Columbia representative about the acquisition of an easement to construct, operate, and maintain the planned project facilities. The pipeline company would seek to negotiate a mutually acceptable agreement. However, if the project is approved by the Commission, that approval conveys with it the right of eminent domain. Therefore, if easement negotiations fail to produce an agreement, Columbia could initiate condemnation proceedings in accordance with Ohio state law.

A fact sheet prepared by the FERC entitled “An Interstate Natural Gas Facility on My Land? What Do I Need to Know?” addresses a number of typically asked questions, including the use of eminent domain and how to participate in the Commission's proceedings. It is available for viewing on the FERC Internet Web site (http://www.ferc.gov).

With this notice, we ¹ are inviting other Federal, State, local, and tribal agencies with jurisdiction and/or special expertise with respect to environmental issues to cooperate with us in the preparation of the EA. Agencies that would like to request cooperating status should follow the instructions for filing comments provided below.

¹ “We,” “us,” and “our” refer to the environmental staff of the FERC's Office of Energy Projects.

Summary of the Proposed Project

Within the Crawford Storage Field (Fairfield and Hocking Counties, Ohio), Columbia seeks authorization to:

• Construct 16 new storage wells;

• Convert 11 existing counter storage wells to active storage wells;

• Convert 10 existing observation wells to counter or active storage wells,;

• Convert 2 high pressure wells to counter storage wells;

• Purchase 6 production wells and convert to storage wells;

• Install 13.6 miles of interconnecting pipeline; and

• Make minor modifications at Columbia's Crawford Compressor Station.

Within the Weaver Storage Field (Ashland and Holmes Counties, Ohio), Columbia seeks authorization to:

• Construct 4.1 miles of field storage pipeline;

• Replace 1.7 miles of field storage pipeline;

• enhance the deliverability work on 26 existing storage wells;

• Install one gate valve setting;

• Install a measurement station; and

• Install a regulation station.

The storage project would provide an additional 103,400 dekatherms per day of storage deliverability for service in the eastern United States. Appendix A presents detailed maps identifying all facilities associated with this project.²

² The appendices referenced in this notice are not being printed in the Federal Register. Copies are available on the Commission's Internet Web site (http://www.ferc.gov) at the “eLibrary” link or from the Commission's Public Reference Room at (202) 502-8371. For instructions on connecting to eLibrary, refer to the “Additional Information” section at the end of this notice. Copies of the appendices are being sent to all those receiving this notice in the mail. Requests for detailed maps of the facilities should be made directly to Dominion.

Land Requirements for Construction

For new well installation, Columbia would disturb a 400-foot-square. For reconditioned wells, a 300-foot-square would be necessary. Columbia plans to use between a 50-foot and 70-foot-wide construction right-of-way for installation of its pipelines (ranging from 4 to 10 inches in diameter). Based on preliminary information, construction of the pipelines and storage facilities would disturb about 359 acres of land. Following construction, about 331 acres would be maintained as permanent right-of-way. The remaining temporary workspace would be restored and allowed to revert to its former use.

The EA Process

We are preparing this EA to comply with the National Environmental Policy Act of 1969 (NEPA) which requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this notice, we are requesting public comments on the scope of the issues to be addressed in the EA. All comments received will be considered during the preparation of the EA. As part of our Pre-Filing review, Columbia previously sponsored public open houses in the project areas to explain its project, the environmental review process, and take comments about the project from interested stakeholders (January 23 and 24, 2008).

The EA will discuss impacts that could occur as a result of the construction and operation of the planned project under the following general headings:

• Geology and soils;

• Water resources;

• Wetlands;

• Vegetation, fisheries, and wildlife (including threatened and endangered species);

• Cultural resources;

• Land use and visual quality;

• Air quality and noise; and

• Reliability and safety.

We note that 12 of the wells to be reconditioned in the Weaver Storage Field are located within the boundary of Mohican Memorial State Forest. Further, construction of the Ohio Storage Expansion Project would require the removal of potential Indiana bat roost trees. Additionally, we will evaluate possible alternatives to the proposed project or portions of the project, and make recommendations on how to lessen or avoid impacts on the various resource areas.

Our independent analysis of the issues will be presented in the EA. Depending on the comments received during the scoping process, the EA may be published for distribution and mailed to federal, state, and local agencies; elected officials; public interest groups; interested individuals; affected landowners; newspapers and libraries in the project area; and the Commission's official service list for this proceeding. A comment period will be allotted for review if the EA is published. We will consider all comments on the EA before we make our recommendations to the Commission.

Although no formal application has been filed, the FERC staff has already initiated its NEPA review under the Commission's Pre-Filing Process. The purpose of the Pre-Filing Process is to encourage the early involvement of interested stakeholders and to identify and resolve issues before an application is filed with the FERC.

Public Participation

You can make a difference by providing us with your specific comments or concerns about the project. By becoming a commenter, your concerns will be addressed in the EA and considered by the Commission. Your comments should focus on the potential environmental effects of the proposal, reasonable alternatives (including alternative locations and pipeline routes), and measures to avoid or lessen environmental impact. The more specific your comments, the more useful they will be. Please carefully follow these instructions to ensure that your comments are received in time and properly recorded:

• Send an original and two copies of your letter to: Kimberly D. Bose, Secretary, Federal Energy Regulatory Commission, 888 First Street, NE., Room 1A, Washington, DC 20426.

• Label one copy of the comments for the attention of Gas Branch 1;

• Reference Docket No. PF08-6-000;

• Mail your comments so that they will be received in Washington, DC on or before April 7, 2008.

Please note that the Commission strongly encourages electronic filing of comments. See Title 18 of the Code of Federal Regulations (CFR) Part 385.2001(a)(1)(iii) and the instructions on the Commission's Internet Web site at http://www.ferc.gov under the “eFiling” link and the link to the User's Guide. Prepare your submission in the same manner as you would if filing on paper and save it to a file on your computer's hard drive. Before you can file comments you will need to create an account by clicking on “Login to File” and then “New User Account.” You will be asked to select the type of filing you are making. This filing is considered a “Comment on Filing.”

We may mail the EA for comment. If you are interested in receiving it, please return the Mailing List Form (Appendix B). If you do not return the Mailing List Form, you will be removed from the mailing list.

Once Columbia formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. We encourage government representatives to notify their constituents of this proposed project and encourage them to comment on their areas of concern.

If you received this notice, you are on the environmental mailing list for this project. If you do not want to send comments at this time, but still want to remain on our mailing list, please return the Mailing List Form (Appendix B). If you do not return the Information Request, you will be removed from the Commission's environmental mailing list.

Additional Information

Additional information about the project is available from the Commission's Office of External Affairs at 1-866-208 FERC (3372) or on the FERC Internet Web site (http://www.ferc.gov). Using the “eLibrary” link, select “General Search” from the eLibrary menu, enter the selected date range and “Docket Number” excluding the last three digits (i.e., PF08-6), and follow the instructions. For assistance with access to eLibrary, the helpline can be reached at 1-866-208-3676, TTY (202) 502-8659, or at FercOnlineSupport@ferc.gov. The eLibrary link on the FERC Internet Web site also provides access to the texts of formal documents issued by the Commission such as orders, notices, and rule makings.

In addition, the Commission now offers a free service called eSubscription which allows you to keep track of all formal issuances and submittals in specific dockets. This can reduce the amount of time you spend researching proceedings by automatically providing you with notification of these filings, document summaries, and direct links to the documents. Go to http://www.ferc.gov/esubscribenow.htm.

Finally, any public meetings or site visits will be posted on the Commission's calendar located at http://www.ferc.gov/EventCalendar/EventsList.aspx along with other related information. You can also request additional information by calling Kelly Merritt at Columbia at (304) 357-2283.

Kimberly D. Bose,
Secretary.

[FR Doc. E8-3755 Filed 2-27-08; 8:45 am]

BILLING CODE 6717-01-P